DEPARTMENT OF JUSTICE

Notice of Lodging of Second Amendment to Consent Decree Involving Point Ruston, LLC and Asarco LLC Under the Comprehensive Environmental Response Compensation, and Liability Act

Notice is hereby given that on July 27, 2006, a proposed amendment to the existing consent decree (the “Second Amendment”) in United States v. Asarco Inc., Civil Action No. C91-5528B was lodged with the United States District Court for the Western District of Washington.

This Second Amendment involves the potential sales of property owned by ASARCO LLC to Point Ruston LLC, which property is part of the Commencement Bay Nearshore/Tideflats Superfund Site. Under the terms of the Second Amendment should Point Ruston LLC, complete its proposed purchase of the Purchased Property, Point Ruston shall (a) assume the clean-up obligations on the property it is purchasing from Asarco and (b) assume certain clean-up obligations at the Site on property not owned by Asarco that is adjacent to the Purchased Property. The Second Amendment is also conditioned upon approval of a lien resolution agreement. Under the Lien Agreement, the United States will release its existing CERCLA lien in return for a payment of $1,500,000 at closing and contingent payments that could total $4,000,000 based on revenue from the development of the property.

The Department of Justice will receive for a period of thirty (30) days from the date of this publication comments relating to the Second Amendment. Comments should be addressed to the Assistance Attorney General, Environment and Natural Resources Division, P.O. Box 7611, U.S. Department of Justice, Washington, DC 20044-7611, and should refer United States v. Asarco Inc., Civil Action No. C91-5528B, D.J. Ref. 90-11-2-698A. Public meeting will be held in the affected area, in accordance with Section 7003(d) of RCRA, 42 U.S.C. 6973(d) at the following times: Tuesday, August 22, 2006, 2 to 4 p.m. and 6 to 8 p.m. The location of the meetings shall be: the Asarco Information Center (old Ruston school), 5219 North Shirley, Ruston, WA.

The Second Amendment may be examined at the Office of the United States Attorney, Western District of Washington, 700 Stewart St., Suite 5220, Seattle, WA, and at U.S. EPA Region 10, 1200 6th Ave., Seattle, WA. During the public comment period, the Second Amendment, may also be examined on the following Department of Justice, Web site, http://www.usdoj.gov/enrd/Consent _Decrees.html. A copy of the Second Amendment may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.50 (25 cents per page reproduction cost—not including the voluminous attachments) payable to the U.S. Treasury or, if by email or fax, forward a check in that amount to the Consent Decree Library at the stated address.

Maureen Katz,
Assistant Section Chief, Environmental Enforcement Section, Environment and Natural Resources Division.

[FR Doc. 06-6945 Filed 8-15-06; 8:45am]

BILLING CODE 4410-15-M]